SOCIAL SECURITY ADMINISTRATION

Agency Information Collection Activities: Proposed Request

The Social Security Administration (SSA) publishes a list of information collection packages that will require clearance by the Office of Management and Budget (OMB) in compliance with Pub. L. 104-13, the Paperwork Reduction Act of 1995, effective October 1, 1995. The information collection packages that may be included in this notice are for new information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to OMB desk officer and the SSA Reports Clearance Officer. The information can be mailed and/or faxed to the individuals at the addresses and fax numbers listed below:

(OMB) Office of Management and Budget, Attn: Desk Officer for SSA, Fax: 202-395-6974.

(SSA) Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Claimant's Recent Medical Treatment—20 CFR 404.1512 & 416.912—0960-0292. The information collected on Form HA-4631 is used to facilitate processing an applicant's old age, survivors, and disability insurance (Title II) and Supplemental Security Income (SSI; Title XVI) claims. The form elicits from the claimant an updated list of medical treatment. This enables the Administrative Law Judge hearing the case, to fully inquire into past and current medical treatment the claimant received/receives and the effect on the claimant's physical and mental status. The respondents are applicants for Title II and Title XVI benefits.

Type of Request: Extension of an OMB-approved information collection.

Number of Respondents: 320,000.

Frequency of Response: 1.

Average Burden Per Response: 10 minutes.

Estimated Annual Burden: 53,333 hours.

2. The Mental Health Treatment Study (MHTS)—0960—NEW.

Background

As a result of advances in medical treatment, assistive devices, changes in the way those with disabilities are viewed, and legislation designed to assure access to employment, SSA is taking on an increasingly active role in assisting beneficiaries who want to return to work. As a result, SSA plans to develop the MHTS under Section 234 of the Social Security Act (42 U.S.C. 434), which gives the Commissioner of Social Security the authority to carry out experiments and demonstration projects designed to determine the relative advantages and disadvantages of interventions that facilitate a beneficiary's return to work. Part of the agency's role involves finding ways to promote work and increase independence among disability beneficiaries.

SSA received additional support for this study in February 2001, through President Bush's New Freedom Initiative—a comprehensive program whose primary goal is to promote the full participation of individuals with disabilities in all areas of society. The aim of the Initiative is to help Americans with disabilities by increasing their access to effective technologies, expanding educational opportunities, increasing the ability of Americans with disabilities to integrate into the workforce, and promoting increased access into daily community life. This initiative provided SSA with the support necessary to address the need to expand educational and employment opportunities for beneficiaries in an effort to provide supports and services that will enable them to maximize their self-sufficiency and potentially enter or reenter the workforce.

MHTS Collection

The MHTS is a randomized study designed to test the degree to which eliminating programmatic work disincentives, establishing an accurate diagnosis and delivering appropriate mental health and supported employment will lead to improved functioning and competitive employment among Social Security Disability Insurance (SSDI) beneficiaries with a primary impairment of schizophrenia or affective disorder. Study outcomes will assess the impact and cost-effectiveness of the intervention, including identification of specific factors within the interventions that result in positive employment outcomes. This information will enable SSA to further develop ways to improve services to current and future beneficiaries. The information will also be used to guide any potential changes to program rules to allow for better coordination among other Federal and State programs. Interested beneficiaries will be initially screened to confirm their ability to participate in the study. The actual study is scheduled to be conducted over a 2-year period with initial measurement through a baseline survey, followed by quarterly progress surveys and a final follow-up survey. For study purposes, participants will be divided into two groups: (A) Treatment Group and (B) Control Group. The respondents to the study are SSDI beneficiaries who meet the study criteria and elect to participate.

Type of Request: New information collection.

Questionnaire | Total number of respondents | Burden per response | Frequency of response | Total annual burden hours
Screener | 3,050 | 4 minutes | 1 | 203
Treatment Group Surveys
Baseline | 1,500 | 30 minutes | 1 | 750
Quarterly | 1,500 | 25 minutes | 7 | 4,375
Follow-up | 1,500 | 20 minutes | 1 | 500
Total |  |  |  | 5,625
Control Group Surveys
Baseline | 1,500 | 30 minutes | 1 | 750
Quarterly | 1,500 | 10 minutes | 7 | 1,750
Follow-up | 1,500 | 20 minutes | 1 | 500
Total |  |  |  | 3,000

Total Estimated Burden for All Study Activities
Participant | Number of respondents | Number of surveys per respondent | Total annual burden hours
Screener Survey | 3,050 | 1 | 203
Treatment Group (T) | 1,500 | 9 | 5,625
Control Group (C) | 1,500 | 9 | 3,000
Total | 6,050 |  | 8,828

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Partnership Questionnaire—20 CFR 404.1080-.1082—0960-0025. Form SSA-7104 is used to establish several aspects of eligibility for Social Security benefits, including the accuracy of reported partnership earnings, the accuracy of retirement allegations, and lag earnings where they are needed for insured status. The respondents are applicants for Social Security Old Age, Survivors, and Disability Insurance Benefits.

Type of Request: Extension of an OMB-approved information collection.

Number of Respondents: 12,350.

Frequency of Response: 1.

Average Burden Per Response: 30 minutes.

Estimated Annual Burden: 6,175 hours.

2. Letter to Employer Requesting Information about Wages Earned by a Beneficiary—20 CFR 404.703 and 404.801—0960-0034. Form SSA-L725 is used by SSA to establish the exact wages earned by a Social Security beneficiary in situations where SSA has incomplete or questionable wage data. In turn, this information is used to determine if the beneficiary's current SSA payments are accurate. The respondents are employers of wage earners whose earnings records are incomplete or have been questioned.

Type of Request: Extension of an OMB-approved information collection.

Number of Respondents: 150,000.

Frequency of Response: 1.

Average Burden Per Response: 40 minutes.

Estimated Annual Burden: 100,000 hours.

3. Statement of Living Arrangements, In-Kind Support and Maintenance—20 CFR, 416.1130-.1148—0960-0174. Form SSA-8006 provides a national uniform vehicle for collecting information from SSI applicants and recipients about whether they receive income from in-kind support and maintenance. Responses are used to determine eligibility for SSI benefits. The respondents are individuals applying for SSI or those whose eligibility is being reevaluated.

Type of Request: Extension of an OMB-approved information collection.

Number of Respondents: 173,380.

Frequency of Response: 1.

Average Burden Per Response: 7 minutes.

Estimated Annual Burden: 20,228 hours.

4. Supplemental Security Income-Quality Review Case Analysis—20 CFR 416.1103(f)—0960-0133. Form SSA-8508-BK is used in a personal interview with a sample of SSI recipients and covers all elements of SSI eligibility. The information is used to assess the effectiveness of SSI policies and procedures and to determine payment accuracy rates. The respondents are SSI recipients.

Type of Request: Extension of an OMB-approved information collection.

Number of Respondents: 4,500.

Frequency of Response: 1.

Average Burden Per Response: 60 minutes.

Estimated Annual Burden: 4,500 hours.

5. 20 CFR 429, Subpart 100, Filing Claims Under the Federal Tort Claims Act—20 CFR 429.101-429.110—0960-0667. SSA uses the information collected to investigate and determine whether to make an award, compromise, or settlement under the Federal Tort Claims Act (FTCA). The information is only used by those Agency employees who need the information in the scope of their official duties. The respondents are individuals/entities making a claim under the FTCA.

Type of Request: Extension of an OMB-approved information collection.

Section | Annual number of responses | Frequency of response | Average burden per response (minutes) | Estimated annual burden hours
429.102; 429.103 | 1 | 1 | 1 | 1
429.104(a) | 30 | 1 | 5 | 3
429.104(b) | 25 | 1 | 5 | 2
429.104(c) | 2 | 1 | 5 | 1
429.106(b) | 10 | 1 | 10 | 2
Totals | 68 |  |  | 9

Dated: February 8, 2006.
Elizabeth A. Davidson,
Reports Clearance Officer, Social Security Administration.

[FR Doc. 06-1450 Filed 2-15-06; 8:45 am]

BILLING CODE 4191-02-P